NUCLEAR REGULATORY COMMISSION

Nickel-Base Alloy, Vessel Head Penetration Conference

AGENCY: Nuclear Regulatory Commission.

ACTION: Notice of conference.

SUMMARY: NRC Research will sponsor a three-day conference addressing issues of flaw detection and crack growth rate modeling and applications for nickel-base alloys used as vessel head penetrations (VHP) and other pressure boundary attachments. Participants will include a domestic and an international audience consisting of reactor operators, regulatory personnel, and researchers involved in the solution of the structural integrity issues arising from crack growth and leakage through Alloy 600 components, cladding and associated attachment welds. The conference will be structured to include presentations by industry, regulatory and laboratory representatives, as well as open discussion of the critical issues. There are no restrictions on attendance at this conference.

DATES: March 24-26, 2003.

ADDRESSES: Marriot Gaithersburg/Washingtonian Center, 9751 Washingtonian Boulevard, Gaithersburg, MD 20878.

FOR FURTHER INFORMATION CONTACT: Ken Natesan, Argonne National Laboratory, Telephone: (630) 252-5103, e-mail: natesan@anl.gov, or Bill Cullen, Mail Stop T-10 E10, U.S. Nuclear Regulatory Commission, Washington, DC 20555-0001, Telephone: (301) 415-6754, e-mail: whc@nrc.gov. Conference information will be posted on the NRC Web site: http://www.nrc.gov, under the public meetings section of both the Alloy 600 and Vessel Head Degradation subheadings.

SUPPLEMENTARY INFORMATION: The proceedings will be published as Conference Proceedings of the Nuclear Regulatory Commission (NUREG/CP-series). Additional details, including lists of session chairpersons, and the contributed papers will be published on the NRC Web site: http://www.nrc.gov under the public meetings section of both the Alloy 600 and Vessel Head Degradation subheadings. Presentations at the conference will encompass vessel penetration cracking issues for all primary boundary locations, including upper head, lower head and pressurizer penetrations, and nickel-base alloy, or mixed metal welds used to join pressure boundary components.

The conference will consist of six sessions, chaired by domestic and international representatives of regulatory agencies, industry, and research organizations. Each session scheduled below includes invited and contributed papers on the following specific topics:

Monday, March 24, 2003—8:30 a.m.-12 Noon

Topics to be presented include flaw inspection procedures, descriptions of NDE results, and user experience with component mock-ups or other NDE training and certification procedures; visual inspection tools, programs underway to improve performance.

Monday, March 24, 2003—1:30-5 p.m.

Topics to be presented include descriptions of crack growth rate (CGR) experiments, interpretation and analysis of CGR data for Alloys 600, 690, 182/82 and 152/52.

Tuesday, March 25, 2003—8:30 a.m.-12 Noon

Topics to be presented include probabilistic fracture mechanics analysis of pressure boundary structural elements, including experimental or analytical stress analyses for axial and circumferential cracking of VHPs.

Tuesday, March 25, 2003—1:30-5 p.m.

Topics to be presented include programs that address the mitigation of the cracking or other corrective actions, especially repair procedures; future materials and fabrication techniques.

Wednesday, March 26, 2003—8:30 a.m.-12 Noon

Topics to be presented include application of these results in operating plants, including follow-on inspections of repaired components, and evaluations of success or failure of these methods.

Wednesday, March 26, 2003—1:30-5 p.m.

Wrap up and summaries by session chairs

The conference is open to the public, and there is no registration fee. Those who wish to attend are encouraged to contact Ken Natesan (natesan@anl.gov) or Bill Cullen (whc@nrc.gov). Further information, including forms for conference registration, and a final list of presentations, will be posted on the NRC website. Those attendees needing special services, such as for the hearing impaired, are requested to notify the conference organizers as far in advance as reasonably possible.

Dated at Rockville, Maryland, this 3rd day of January, 2003.
For the Nuclear Regulatory Commission.
Nilesh C. Chokshi,
Acting Director, Division of Engineering Technology, Office of Nuclear Regulatory Research.

[FR Doc. 03-375 Filed 1-8-03; 8:45 am]

BILLING CODE 7590-01-P